DEPARTMENT OF HEALTH AND HUMAN SERVICES

Centers for Disease Control and Prevention

[Program Announcement 03064]

Expansion of HIV/AIDS/TB Care and Prevention Activities Among People With HIV/AIDS in the Republic of Uganda; Notice of Intent To Fund Single Eligibility Award

A. Purpose

The Centers for Disease Control and Prevention (CDC) announces the intent to fund fiscal year (FY) 2003 funds for a cooperative agreement program to strengthen tuberculosis prevention and treatment, and expand other HIV/AIDS prevention, diagnostic and care programs in Uganda, including to promote healthy behavior choices for young people. The Catalog of Federal Domestic Assistance number for this program is 93.941.

B. Eligible Applicant

Assistance will be provided only to The AIDS Support Organization (TASO) Uganda. No other applications are solicited.

There is limited, large-scale HIV/AIDS care and support experience in Uganda. TASO is the only HIV-care provider in Uganda that works in several different areas of the country, both rural and urban settings, and has both home-based and clinic-based activities. It currently has 20,000 clients with HIV, more than 400 percent more than the next largest HIV specialist organization. TASO is the only organization in Uganda with demonstrated experience in administering individual- and group-focused HIV prevention programs on a large scale. TASO has over ten years of experience with HIV care programs involving psychosocial support, management of opportunistic infections, and TB care. TASO is the only organization in Uganda with experience implementing large-scale cotrimoxazole prophylaxis programs and a safe-water vessel program among rural communities—two critically important components of the proposed cooperative agreement. Lastly, TASO is the only significant provider of health care services for people living with HIV/AIDS in the rural Tororo area where CDC's HBAC project is to be implemented. Data has already been collected on baseline morbidity and mortality among a proportion of TASO clients as part of a diarrhea prevention study and this is the only population in Uganda with which HBAC could be implemented and provide the necessary information for evaluation of its effectiveness.

CDC has worked with TASO previously to establish a computerized information system at their seven centers, and on pilot programs for cotrimoxazole prophylaxis and safe water vessel use. This cooperative agreement will allow improved services for all of TASO clients including those at TASO-Tororo, which will enhance the project. If found successful, the HBAC program could be more rapidly and cost-effectively implemented throughout Uganda using existing TASO structures because of the experience of working on HBAC with CDC.

C. Funding

Approximately $750,000 is available in FY 2003 to fund this award. It is expected that the award will begin on or before September 1, 2003, and will be made for a 12-month budget period within a project period of up to three years. Funding estimates may change.

D. Where To Obtain Additional Information

For general comments or questions about this announcement, contact: Technical Information Management, CDC Procurement and Grants Office, 2920 Brandywine Road, Atlanta, GA 30341-4146. Telephone: 770-488-2700.

For technical questions about this program, contact: Jonathan Mermin, Global AIDS Program (GAP), Uganda Country Team, National Center for HIV, STD and TB Prevention, Centers for Disease Control and Prevention, PO Box 49, Entebbe, Uganda. Telephone: +256-410320776. E-mail: jhm7@cdc.gov.

Dated: July 1, 2003.
Sandra R. Manning,
Director, Procurement and Grants Office, Centers for Disease Control and Prevention.

[FR Doc. 03-17161 Filed 7-7-03; 8:45 am]

BILLING CODE 4163-18-P